SURFACE TRANSPORTATION BOARD

[Docket No. EP 670 (Sub-No. 1)]

Notice of Rail Energy Transportation Advisory Committee Meeting

On March 11, 2020, the Board provided notice of a meeting of the Rail Energy Transportation Advisory Committee (RETAC), to be held on April 21, 2020. This meeting will be postponed. Notice of the rescheduled meeting will be announced at a later date. For further information, please contact Kristen Nunnally at (202) 245-0312 or Kristen.Nunnally@stb.gov.

Authority: 49 U.S.C. 1321, 49 U.S.C. 11101; 49 U.S.C. 11121.

Decided: March 17, 2020.
By the Board, Allison C. Davis, Director, Office of Proceedings.
Kenyatta Clay,
Clearance Clerk.

[FR Doc. 2020-05973 Filed 3-20-20; 8:45 am]

BILLING CODE 4915-01-P